DEPARTMENT OF TRANSPORTATION

Federal Aviation Administration

Government/Industry Aeronautical Chartering Forum Meeting

AGENCY: Federal Aviation Administration (FAA), DOT.

ACTION: Notice of changes in public meeting.

SUMMARY: This notice announces the cancellation of the Charting Group meeting associated with of the Federal Aviation Administration's Government/Industry Aeronautical Charting Forum (ACF). The Instrument Procedures Group will meet as originally planned.

DATES: The ACF is separated into two distinct groups. The Instrument Procedures Group will meet as planned October 20 and 21, 2003 from 9 a.m. to 4:30 p.m. The Chart Group meeting originally scheduled for October 22 and 23, 2003 from 9 a.m. to 4:30 p.m. is cancelled.

ADDRESSES: The meeting will be held at the FAA National Aeronautical Charting Office, AVN-500, 1325 East-West Highway, Silver Spring, SSMC 2, Room 2358, MD 20910.

FOR FURTHER INFORMATION CONTACT: For information relating to the Instrument Procedures Group, contact Thomas E. Schneider, Flight Procedures Standards Branch, AFS-420, 6500 South MacArthur Blvd., PO Box 25082, Oklahoma City, OK 73125; telephone (405) 954-5852; fax: (405) 954-2528. For information relating to the cancellation of the Charting Group meeting, contact Richard V. Powell, FAA, Air Traffic Airspace Management, ATA-100, 800 Independence Avenue, SW., Washington, DC 20591; telephone: (202) 267-8790, fax: (202) 293-4266.

Issued in Washington, DC, on October 15, 2003.
Richard V. Powell,
Chair, Government/Industry Aeronautical Charting Forum.

[FR Doc. 03-26562 Filed 10-20-03; 8:45 am]

BILLING CODE 4910-15-M